DEPARTMENT OF DEFENSE

Department of the Navy

[Docket ID: USN-2010-0006]

Privacy Act of 1974; System of Records

AGENCY: U.S. Marine Corps; Department of the Navy; DoD.

ACTION: Notice to add a system of records.

SUMMARY: The U.S. Marine Corps is proposing to add a new system of records notice to its existing inventory of records systems subject to the Privacy Act of 1974, (5 U.S.C. 552a), as amended.

DATES: This proposed action will be effective without further notice on May 3, 2010 unless comments are received which result in a contrary determination.

ADDRESSES: You may submit comments, identified by docket number and title, by any of the following methods:

* Federal Rulemaking Portal: http://www.regulations.gov. Follow the instructions for submitting comments.

* Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Tracy Ross at (703) 614-4008.

SUPPLEMENTARY INFORMATION: The U.S. Marine Corps system of records notices subject to the Privacy Act of 1974, (5 U.S.C. 552a), as amended, have been published in the Federal Register and are available from: Headquarters, U.S. Marine Corps, FOIA/PA Section (ARSF), 2 Navy Annex, Room 3134, Washington, DC 20380-1775.

The proposed system report, as required by 5 U.S.C. 552a(r), of the Privacy Act of 1974, as amended, was submitted on March 23, 2010, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996; 61 FR 6427).

Dated: March 29, 2010.
Mitchell S. Bryman,
Alternate OSD Federal Register Liaison Officer, Department of Defense.

M01070-7

System Name:

Marine Corps Mobilization Processing System (MCMPS) Records

System Location:

Headquarters Marine Corps (HQMC) Manpower Information Systems Division (MI), at the James Wesley Marsh Center, 3280 Russell Rd., Marine Corps Base, Quantico, VA 22134-5103.

Categories of Individuals Covered by the System:

Marine Corps reservists and retirees, Navy personnel augmented to support the Marine Corps, medical officers, corpsmen, chaplains and pilots.

Categories of Records in the System:

Personnel data includes full name, Social Security Number (SSN), rank/grade, date of rank (DOR), Military Occupational Specialty (MOS), Navy Enlisted Classifications (NEC) and Navy Officer Designators (NOD), current duty station, Parent Organization or Navy Command, mailing address, and assignment history.

Authority for Maintenance of the System:

5 U.S.C. 301, Departmental Regulations; 32 CFR 64.6, Management and Mobilization; and Marine Corps Order; P1300.8R, Marine Corps Personnel Assignment Policy; E.O. 9397 (SSN), as amended.

Purpose(s):

To facilitate the recall, mobilization, tracking of Reserve and Retired Marines, and Navy personnel that augment and support the Marine Corps, Medical Officers, Corpsmen, chaplains and pilots. The Marine Corps Mobilization Processing System (MCMPS) Records primarily provides the capability to allow Initial Deployment Processing Centers (IDPCs), Deployment Processing Centers (DPCs), Marine Corps Reserve Support Command (MCRSC), Marine Forces Reserves (MARFORRES), and Manpower Management Force Augmentation (MMFA), Manpower and Reserve Affairs (M&RA), HQMC personnel to process and monitor the status of individual manpower activation and mobilization.

Routine Uses of Records Maintained in the System, Including Categories of Users and the Purposes of Such Uses:

In addition to those disclosures generally permitted under 5 U.S.C. 552a(b) of the Privacy Act of 1974, these records contained therein may specifically be disclosed outside the DoD as a routine use pursuant to 5 U.S.C. 552a(b)(3) as follows:

To officials and employees of other departments and agencies of the Executive Branch of government, upon request, in the performance of their official duties related to the management of activating, recalling and mobilizing Marine Corps Reservists and retired Marines.

The DoD `Blanket Routine Uses' set forth at the beginning of the Marine Corps' compilation of systems of records notices apply to this system.

Policies and Practices for Storing, Retrieving, Accessing, Retaining, and Disposing of Records in the System:

Storage:

Electronic storage media.

Retrievability:

Name and/or Social Security Number (SSN).

Safeguards:

Access is restricted to personnel with authorized access in the performance of their official duties. MCMPS is currently encrypted to protect the transmission of personal information. The system does not contain any classified information.

Retention and Disposal:

Disposition pending (treat records as permanent until the National Archives and Records Administration has approved the retention and disposition schedule.

System Manager(s) and Address:

Headquarters Marine Corps (HQMC), Director, Manpower Information Systems Division (MI), James Wesley Marsh Center, 3280 Russell Road, Marine Corps Base (MCB), Quantico, VA 22143-5103.

Notification Procedures:

Individuals seeking to determine whether information about themselves is contained in this system should address written inquiries to HQMC, Manpower Information Systems Division (MI), James Wesley Marsh Center, 3280 Russell Road, MCB, Quantico, VA 22143-5103.

The request must be signed and include full name, complete mailing address and Social Security Number (SSN).

Record Access Procedures:

Individuals seeking access to information about themselves contained in this system should address written inquiries to HQMC, Manpower Information Systems Division (MI), James Wesley Marsh Center, 3280 Russell Road, MCB, Quantico, VA 22143-5103.

The request must be signed and include full name, complete mailing address and Social Security Number (SSN).

Contesting Record Procedures:

The USMC rules for contesting contents and appealing initial agency determinations are published in Secretary of the Navy Instruction 5211.5; Marine Corps Order P5211.2; 32 CFR part 701; or may be obtained from the system manager.

Record Source Categories:

MCMPS personnel data comes from the Operational Data Store Enterprise (ODSE), and the Navy-MCMPS (NMCMPS) for Navy personnel.

Exemptions Claimed for the System:

None.

[FR Doc. 2010-7385 Filed 4-1-10; 8:45 am]

BILLING CODE 5001-06-P